DEPARTMENT OF JUSTICE

Notice of Lodging of Consent Decree Under the Clean Water Act

Notice is hereby given that on July 30, 2009, a Consent Decree Between the United States of America, the State of Louisiana, and the City of St. Martinville (“the Consent Decree”) in United States of America & State of Louisiana v. City of St. Martinville, Civil Action No. CV00-1238 L-0 was lodged with the United States District Court for the Western District of Louisiana.

In this action the United States asserted claims for civil penalties and injunctive relief under the Clean Water Act, 33 U.S.C. 1251 et seq., relating to violations of the requirements of a National Pollution Discharge Elimination System (“NPDES”) permit issued to St. Martinville for its sewage treatment system. Under the Consent Decree, St. Martinville will relocate the discharge point of its sewage treatment plant, conduct a remedial program for the system of pipes and related equipment used to collect and convey sewage to the treatment plant, and pay a civil penalty of $49,926.28 in two installments. In consideration of the actions that will be performed by St. Martinville under the Consent Decree and the civil penalty payments that will be made by St. Martinville under the Consent Decree, United States covenants not to sue or to take administrative action against St. Martinville for civil claims specifically alleged in the Complaint which accrued on or before the date the Consent Decree was lodged.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States of America & State of Louisiana v. City of St. Martinville, D.J. Ref 90-5-1-1-06041.

The Consent Decree may be examined at the Office of the United States Attorney, Western District of Louisiana, 800 Lafayette Street, Suite 2200, Lafayette, LA 70501, and at U.S. EPA Region 6, 1445 Ross Ave., Ste. 1200, Dallas, TX 75202. During the public comment period, the Consent Decree, may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $21.50 (25 cents per page reproduction cost) payable to the U.S. Treasury or, if by e-mail or fax, forward a check in that amount to the Consent Decree Library at the stated address.

Maureen Katz,
Assistant Chief, Environmental Enforcement Section, Environment and Natural Resources Division, United States Department of Justice.

[FR Doc. E9-18645 Filed 8-4-09; 8:45 am]

BILLING CODE 4410-15-P